DEPARTMENT OF COMMERCE

National Oceanic and Atmospheric Administration

50 CFR Part 648

[Docket No. 130702585-4484-01]

RIN 0648-BD42

Magnuson-Stevens Fishery Conservation and Management Act Provisions; Fisheries of the Northeastern United States; Special Management Zones for Five Delaware Artificial Reefs

AGENCY: National Marine Fisheries Service (NMFS), National Oceanic and Atmospheric Administration (NOAA), Commerce.

ACTION: Proposed rule; extension of comment period.

SUMMARY: NMFS extends for 15 days the comment period on the proposed rule to implement special management zones for five Delaware artificial reefs.

DATES: The deadline for written comments on the proposed rule published on June 19, 2014 (79 FR 35141), is extended from August 4, 2014, to August 19, 2014.

ADDRESSES: You may submit comments, identified NOAA-NMFS-2014-0060, by any of the following methods:

• Federal e-rulemaking portal: Go to www.regulations.gov/#!docketDetail; D=NOAA-NMFS-2014-0060 click the “Comment Now!” icon, complete the required fields, and enter or attach your comments.

• Mail and Hand Delivery: John K. Bullard, Regional Administrator, NMFS, Greater Atlantic Regional Fisheries Office, 55 Great Republic Drive, Gloucester, MA 01930. Mark the outside of the envelope: “Comments on SMZ Measures.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Copies of the Environmental Assessment and Initial Regulatory Flexibility Analysis (EA/IRFA) and other supporting documents for the Special Management Zones measures are available from Paul Perra, NOAA/NMFS, Sustainable Fisheries Division, 55 Great Republic Drive, Gloucester, MA 01930. The Special Management Zone measures document is also accessible via the Internet at: http://www.nero.noaa.gov.

FOR FURTHER INFORMATION CONTACT: Paul Perra, Fishery Policy Analyst, (978) 281-9153.

SUPPLEMENTARY INFORMATION: The Delaware Fish and Wildlife Department (DFW) requested that the Mid-Atlantic Fishery Management Council designate five artificial reef sites, currently permitted by the U.S. Corps of Engineers in the Exclusive Economic Zone (EEZ), as Special management Zones (SMZs) under the regulations implementing the Council's Summer Flounder, Scup, and Black Sea Bass Fishery Management Plan (FMP). The SMZ request noted that the DFW has received complaints from hook-and-line anglers regarding fouling of their fishing gear in commercial pots and lines on ocean reef sites for more than 10 years. It also noted that the U.S. Fish and Wildlife Service (FWS) Sportfish Restoration Program had notified DFW that these gear conflicts are not consistent with the objectives of the Sportfish Restoration Program, which provides funding for the building and maintenance of the artificial reefs. In order to comply with the goals of the Sportfish Restoration Program, the FWS is requiring that state artificial reef programs be able to limit gear conflicts by state regulations in state waters or by SMZs for sites in the EEZ.

After considering the DFW request, the Council recommended that all five artificial reefs be established as SMZs through a regulatory amendment. The action, as proposed, would allow only hook-and-line and spear fishing (including the taking of fish by hand) in the artificial reef designated areas, and these measures should be implemented with a 500-yard (457.2-m) enforcement buffer around each artificial reef site. In response to the Council's recommendation, NMFS developed a Draft Environmental Assessment and a proposed rule to implement the SMZs measures, as recommended by the Council, published in the Federal Register on June 19, 2014, (79 FR 35141), with a 45-day comment period that closes August 4, 2014.

Summer flounder, scup, and black sea bass are managed jointly by the Council and Atlantic States Marine Fisheries Commission. The comment period on the proposed rule is scheduled to close on August 4, 2014, the day before the start of the next meeting of the Commission, and a week before the next Council meeting. In order to provide further opportunity for the Commission and Council to formulate comments, and give more opportunity for the public to review and provide comments on the proposed rule to implement SMZs for five Delaware artificial reefs, NMFS is extending the comment period on the proposed rule until August 19, 2014.

Dated: July 11, 2014.
Samuel D. Rauch III,
Deputy Assistant Administrator for Regulatory Programs, National Marine Fisheries Service.

[FR Doc. 2014-16704 Filed 7-15-14; 8:45 am]

BILLING CODE 3510-22-P